DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Closed-Circuit Flow Obturator for Laparoscopy Port

Jason Wynberg (NCI)

U.S. Provisional Patent Application filed 24 Nov 2004 (DHHS Ref. No. E-237-2004/0-US-01)

Licensing Contact: Michael Shmilovich; (301) 435-5019; shmilovm@mail.nih.gov.

Available for licensing, manufacturing and commercial development is a laparoscopic surgical device. This device is an obturator with a cylindrical shape (diameter about 11mm, length about 4.5 inches) with hollow inflow and outflow channels running through the obturator to allow for the transfer of fluids or gas into the interior of the laparoscopic working space in a closed-circuit fashion. At the top and bottom ends of the obturator, flexible hollow tubings are coupled to the end holes of the obturator's hollow channels. In working position, the obturator traverses the inner space of the previously placed laparoscopic port, with the outside diameter of the obturator, creating an airtight seal with the port's diaphragm seal. The flexible tubings that continue from the bottom/intracorporeal end of the obturator would rest inside the operative working space, for connection to any number of end-pieces that would complete the intracorporeal closed-circuit flow path. Applications of this device include transmission of chemotherapeutics, thermoregulated fluids for organ cooling/warming, and possibly even gas media. This obturator can also be designed to include a working channel among its hollow channels, so that a 5 mm laparoscopic instrument can be used through the obturator, at the same time as it is transmitting fluids or gas through its other channels.

In addition to licensing, the technology is available for further development through collaborative research with the inventors via a Cooperative Research and Development Agreement (CRADA).

Monoclonal Antibodies to HIV-1 Vpr

Jeffrey Kopp (NIDDK), Terence Philips (ORS), Schubert Ulrich (NIAID), John Yewell (NIAID)

U.S. Provisional Application No. 60/585,282 filed 01 Jul 2004 (DHHS Reference No. E-141-2003/0-US-01)

Licensing Contact: Michael Shmilovich; (301) 435-5019; shmilovm@mail.nih.gov.

Available for licensing are monoclonal antibodies against HIV-1 viral protein R (Vpr) and the respective hybridoma cell lines expressing the same. The antibodies provide a means for detecting HIV-1 Vpr. Currently, the mechanism of HIV pathogenesis believe d to involve viral replication inside immune cells and other cells. At present, there are no clinical assays for detecting HIV-1 Vpr. Vpr circulates at detectable levels in the blood and is likely derived from degraded virions or released from infected cells. Vpr facilitates viral replication and disrupt normal cell function. Thus measurement of Vpr levels in blood, extracellular fluid, and tissue may be of benefit in understanding the pathogenesis of HIV-1 infection and its myriad complications.

The hybridoma cell line s (9F12 and 10F2) were selected from a group of hybridoma cell lines. These antibodies can be used for detection, including immunoasssays (ELISA) and immunoaffinity-capillary electrophoresis. The amount of detected HIV-1 Vpr is compared to a standardized control sample for determining the progress of disease or the presence of known complications like neuropathy, dementia, metabolic syndrome, or nephropathy.

In addition to licensing, the technology is available for further development through collaborative research with the inventors via a Cooperative Research and Development Agreement (CRADA).

Dated: January 14, 2005.
Steven M. Ferguson,
Director, Division of Technology Development and Transfer, Office of Technology Transfer, National Institutes of Health.

[FR Doc. 05-1279 Filed 1-24-05; 8:45 am]

BILLING CODE 4140-01-P